DEPARTMENT OF THE INTERIOR

Bureau of Land Management

[LLCA930000.L58740000.EU0000.LXSS037B0000; CACA 50935]

Notice of Realty Action: Direct Sale of Public Land in Kern County, CA

AGENCY: Bureau of Land Management, Interior.

ACTION: Notice of Realty Action.

SUMMARY: The Bureau of Land Management (BLM), Ridgecrest Field Office, proposes to sell a parcel of public land consisting of 160 acres in Kern County, California to the County of Kern for the appraised fair market value of $380,000.

DATES: Comments regarding the proposed sale must be received by the BLM on or before February 7, 2011.

ADDRESSES: Written comments concerning the proposed sale should be sent to the Field Manager, BLM, Ridgecrest Field Office, 300 So. Richmond Road, Ridgecrest, California 93555.

FOR FURTHER INFORMATION CONTACT: Dan Ryan, Realty Specialist, BLM, California State Office, 2800 Cottage Way, Sacramento, California 95825 or phone (916) 978-4677.

SUPPLEMENTARY INFORMATION: The following described public land is being proposed for direct sale to Kern County in accordance with Sections 203 and 209 of the Federal Land Policy and Management Act of 1976 (FLPMA), as amended (43 U.S.C. 1713 and 1719);

San Bernardino Meridian

T. 11 N., R. 12 W.,

sec. 34, NW¼.

The area described contains 160 acres, more or less, in Kern County.

The public land is identified as suitable for disposal in the BLM's 1980 California Desert Conservation Area Plan, as amended, and is not needed for any other Federal purpose. The BLM is proposing a direct sale because Kern County wishes to secure the land for a buffer zone for their existing landfill. In accordance with 43 CFR 2711.3-3(a), a local government has been identified as the buyer, and the parcel identified for sale is an integral part of a project of public importance and speculative bidding would jeopardize a timely completion and economic viability of the project. Therefore, a competitive sale is not appropriate and the public interest would be best served by a direct sale. The public land proposed for sale is isolated from other public lands and the BLM's purpose in selling the land is to dispose of land that is difficult and uneconomic to manage as part of the public lands. The BLM has completed a mineral potential report which concluded there are no known mineral values in the land proposed for sale. The BLM proposes that conveyance of the Federal mineral interests would occur simultaneously with the sale of the land.

On December 23, 2010, the above described land will be segregated from appropriation under the public land laws, including the mining laws, except for the sale provisions of the FLPMA. Until completion of the sale, the BLM will no longer accept land use applications affecting the identified public lands, except applications for the amendment of previously filed right-of-way applications or existing authorizations to increase the term of the grants in accordance with 43 CFR 2802.15 and 2886.15. The segregation terminates upon issuance of a patent, publication in the Federal Register of a termination of the segregation, or on December 24, 2012, unless extended by the BLM State Director in accordance with 43 CFR 2711.1-2(d) prior to the termination date. The land would not be sold until at least February 22, 2011. Kern County would be required to pay a $50 nonrefundable filing fee for conveyance of the mineral interests. Any patent issued would contain the following terms, conditions, and reservations:

1. A reservation of a right-of-way to the United States for ditches and canals constructed by authority of the United States under the Act of August 30, 1890 (43 U.S.C 945);

2. A condition that the conveyance be subject to all valid existing rights of record;

3. An appropriate indemnification clause protecting the United States from claims arising out of the patentee's use, occupancy, or occupations on the patented lands;

4. Additional terms and conditions that the authorized officer deems appropriate.

Detailed information concerning the proposed land sale, including the appraisal, planning and environmental documents, and a mineral report, are available for review at the location identified in ADDRESSES above.

Public comments regarding the proposed sale may be submitted in writing to the attention of the BLM Ridgecrest Field Manager (see ADDRESSES above) on or before February 7, 2011. Comments received in electronic form, such as e-mail or facsimile, will not be considered. Any adverse comments regarding the proposed sale will be reviewed by the BLM State Director or other authorized official of the Department of the Interior, who may sustain, vacate, or modify this realty action in whole or in part. In the absence of timely filed objections, this realty action will become the final determination of the Department of the Interior.

Before including your address, phone number, e-mail address, or other personal identifying information in your comment, be advised that your entire comment—including your personal identifying information—may be made publicly available at any time. While you can ask us in your comment to withhold from public review your personal identifying information, we cannot guarantee that we will be able to do so.

Authority: 43 CFR 2711.1-2(a) and (c).

Tom Pogacnik,
Deputy State Director for Natural Resources.

[FR Doc. 2010-32312 Filed 12-22-10; 8:45 am]

BILLING CODE 4310-40-P